FARM CREDIT ADMINISTRATION

12 CFR Part 620

Disclosure to Shareholders

CFR Correction

In Title 12 of the Code of Federal Regulations, Parts 600 to 899, revised as of January 1, 2013, on page 253, in § 620.5, paragraphs (i), (j) and (k) are removed and paragraphs (l), (m) and (n) are redesignated as (i), (j) and (k).

[FR Doc. 2013-23370 Filed 9-23-13; 8:45 am]

BILLING CODE 1505-01-D